DEPARTMENT OF ENERGY

Orders Granting Authority To Import and Export Natural Gas, and To Import and Export Liquefied Natural Gas During August 2013

| FE Docket Nos.
Twin Eagle Resource Management Canada, LLC | 13-91-NG
Hartland Fuel Products, LLC | 13-84-LNG
Public Utility District No. 1 of Clark County | 13-88-NG
Occidental Energy Marketing, Inc | 13-89-LNG
Twin Eagle Resource Management, LLC | 13-90-NG
Just Energy New York Corp | 13-86-NG
Lake Charles Exports, LLC | 13-59-LNG
Newpage Corporation | 13-93-NG
Koch Energy Services, LLC | 13-92-NG
Enterprise Products Operating LLC | 13-94-NG
Pacific Gas And Electric Company | 13-95-NG
Barclays Bank PLC | 13-99-NG

AGENCY: Office of Fossil Energy, Department of Energy.

ACTION: Notice of orders.

SUMMARY: The Office of Fossil Energy (FE) of the Department of Energy gives notice that during August 2013, it issued orders granting authority to import and export natural gas, and to import and export liquefied natural gas. These orders are summarized in the attached appendix and may be found on the FE Web site at http://www.fossil.energy.gov/programs/gasregulation/authorizations/Orders-2013.html. They are also available for inspection and copying in the Office of Oil and Gas Global Security and Supply, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on October 24, 2013.
John A. Anderson,
Manager, Natural Gas Regulatory Activities, Office of Oil and Gas Global Security and Supply, Office of Fossil Energy.

Appendix

DOE/FE Orders Granting Import/Export Authorizations
3318 | 08/01/13 | 13-91-NG | Twin Eagle Resource Management Canada, LLC | Order granting blanket authority to import/export natural gas from/to Canada and to export natural gas to Mexico.
3319 | 08/01/13 | 13-84-LNG | Hartland Fuel Products, LLC | Order granting blanket authority to export LNG to Canada by truck.
3320 | 08/01/13 | 13-88-NG | Public Utility District No. 1 of Clark County | Order granting blanket authority to import/export natural gas from/to Canada.
3321 | 08/01/13 | 13-89-LNG | Occidental Energy Marketing, Inc | Order granting blanket authority to import LNG from various international sources by vessel.
3322 | 08/01/13 | 13-90-NG | Twin Eagle Resource Management, LLC | Order granting blanket authority to import/export natural gas from/to Canada, and to export natural gas to Mexico.
3323 | 08/01/13 | 13-86-NG | Just Energy New York Corp | Order granting blanket authority to import/export natural gas from/to Canada.
3324 | 08/07/13 | 11-59-LNG | Lake Charles Exports, LLC | Order conditionally granting long-term Multi-Contract authorization to export LNG by vessel from the Lake Charles Terminal to Non-Free Trade Agreement Nations.
3325 | 08/15/13 | 13-93-NG | NewPage Corporation | Order granting blanket authority to import natural gas from Canada.
3326 | 08/22/13 | 13-92-NG | Koch Energy Services, LLC | Order granting blanket authority to import/export natural gas from/to Canada.
3327 | 08/22/13 | 13-94-NG | Enterprise Products Operating LLC | Order granting blanket authority to import/export natural gas from/to Canada/Mexico.
3328 | 08/22/13 | 13-95-NG | Pacific Gas and Electric Company | Order granting blanket authority to export natural gas to Canada.
3329 | 08/22/13 | 13-99-NG | Barclays Bank PLC | Order granting blanket authority to import/export natural gas from/to Canada/Mexico.

[FR Doc. 2013-25939 Filed 10-30-13; 8:45 am]

BILLING CODE 6450-01-P